ENVIRONMENTAL PROTECTION AGENCY

[FRL-9118-1]

Notice of Settlement Agreement Pertaining to Construction of a Waste Repository on the Settlors' Property Pursuant to the Comprehensive Environmental Response, Compensation, and Liability Act

AGENCY: Environmental Protection Agency.

ACTION: Notice; request for public comment.

SUMMARY: In accordance with the Comprehensive Environmental Response, Compensation, and Liability Act of 1980, as amended (“CERCLA”), 42 U.S.C. 9601 et seq., notice is hereby given of a Settlement Agreement pertaining to Construction of a Waste Repository on Settlor's Property located on the Tar Creek Superfund Site in Ottawa County, Oklahoma.

The settlement requires a permanent waste repository on the property by resolving, liability the settling party might otherwise incur under CERCLA sections 106 or 107, 42 U.S.C. 9606 or 9607, for materials placed in the repository on the Property after the effective date of the Agreement. The settlement includes a covenant not to sue pursuant to Sections 106 and 107 of CERCLA, 42, U.S.C. 9606 and 9607, or other applicable law, for liability for response actions and/or claims for natural resource damages arising from the disposal of hazardous substances, pollutants, or contaminants in the Repository that is to be constructed on the Property.

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202.

DATES: Comments must be submitted on or before March 29, 2010.

ADDRESSES: The proposed settlement and additional background information relating to the settlement are available for public inspection at 1445 Ross Avenue, Dallas, Texas 75202-2733. A copy of the proposed settlement may be obtained from Ursula Lennox, 1445 Ross Avenue, Suite 1200, Dallas, Texas 75202-2733 or by calling (214) 665-6743. Comments should reference Tar Creek Superfund site in Ottawa County, Oklahoma, and EPA Docket Number 06-02-10, and should be addressed to Ursula Lennox at the address listed above.

FOR FURTHER INFORMATION CONTACT: James Costello, 1445 Ross Avenue, Suite 1200, Dallas, Texas 75202-2733 or call (214) 665-8045.

Dated: February 12, 2010.
Al Armendariz,
Regional Administrator (6RA).

[FR Doc. 2010-3843 Filed 2-24-10; 8:45 am]

BILLING CODE 6560-50-P